NUCLEAR REGULATORY COMMISSION

Sunshine Act; Meetings

Date: Weeks of February 7, 14, 21, 28, March 7, 14, 2005.

Place: Commissioners' Conference Room, 11555 Rockville Pike, Rockville, Maryland.

Status: Public and Closed.

Matters to Be Considered:

Week of February 7, 2005

There are no meetings scheduled for the week of February 7, 2005.

Week of February 14, 2005—Tentative

Tuesday, February 15, 2005:

9:30 a.m. Briefing on Office of Nuclear Material Safety and Safeguards Programs, Performance, and Plans—Waste Safety (Public Meeting) (Contact: Jessica Shin, 301-415-8117). This meeting will be webcast live at the Web address— http://www.nrc.gov.

Week of February 21, 2005—Tentative

Tuesday, February 22, 2005:

9:30 a.m. Briefing on Status of Office of the Chief Information Officer (OCIO) Programs, Performance, and Plans (Public Meeting) (Contact: Patricia Wolfe, 301-415-6031). This meeting will be webcast live at the Web address— http://www.nrc.gov.

1:30 p.m. Briefing on Emergency Preparedness Program Initiatives (Closed—Ex. 1)

Wednesday, February 23, 2005:

9:30 a.m. Briefing on Status of Office of the Chief Financial Officer (OCFO) Programs, Performance, and Plans (Public Meeting) (Contact: Edward New, 301-415-5646). This meeting will be webcast live at the Web address— http://www/nrc.gov.

Thursday, February 24, 2005:

9 a.m. Discussion of Security Issues (Closed—Ex. 1)

1 p.m. Briefing on Nuclear Fuel Performance (Public Meeting) (Contact: Frank Akstulewicz, 301-415-1136). This meeting will be webcast live at the Web address— http://www.nrc.gov.

Week of February 28, 2005—Tentative

There are no meetings scheduled for the week of February 28, 2005.

Week of March 7, 2005—Tentative

Monday, March 7, 2005:

9:30 a.m. Briefing on Office of Nuclear Material Safety and Safeguards Programs, Performance, and Plans—Materials Safety (Public Meeting) (Contact: Shamica Walker, 301-415-5142). This meeting will be webcast live at the Web address— http://www.nrc.gov.

Week of March 14, 2005—Tentative

Wednesday, March 16, 2005:

9:30 a.m. Meeting with Advisory Committee on Nuclear Waste (ACNW) (Public Meeting) (Contact: John Larkins, 301-415-7360). This meeting will be webcast live at the Web address— http://www.nrc.gov.

*The schedule for Commission meetings is subject to change on short notice. To verify the status of meetings call (recording)—(301) 415-1292. Contact person for more information: Dave Gamberoni, (301) 415-1651.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, August Spector, at 301-415-7080, TDD: 301-415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: February 3, 2005.
Dave Gamberoni,
Office of the Secretary.

[FR Doc. 05-2481 Filed 2-4-05; 9:27 am]

BILLING CODE 7590-01-M